SECURITIES AND EXCHANGE COMMISSION

Sunshine Act Meeting

Notice is hereby given, pursuant to the provisions of the Government in the Sunshine Act, Public Law 94-409, that the Securities and Exchange Commission will hold an Open Meeting on May 26, 2010 at 10 a.m., in the Auditorium, Room L-002.

The subject matter of the Open Meeting will be:

Item 1: The Commission will consider whether to propose new Rule 613 of Regulation NMS that would require national securities exchanges and national securities associations to act jointly in developing a national market system plan to create, implement, and maintain a consolidated audit trail that would capture customer and order event information, mostly in real time, for all orders in NMS securities, across all markets, from the time of order inception through routing, cancellation, modification, or execution.

Item 2: The Commission will consider a recommendation to adopt amendments to Rule 15c2-12 under the Securities Exchange Act of 1934, a rule pertaining to municipal securities disclosure. The Commission will also consider related interpretive guidance to assist brokers, dealers and municipal securities dealers in meeting their obligations under the antifraud provisions of the federal securities laws.

At times, changes in Commission priorities require alterations in the scheduling of meeting items.

For further information and to ascertain what, if any, matters have been added, deleted or postponed, please contact:

The Office of the Secretary at (202) 551-5400.

Dated: May 18, 2010.
Florence E. Harmon,
Deputy Secretary.

[FR Doc. 2010-12369 Filed 5-19-10; 4:15 pm]

BILLING CODE 8011-01-P